OFFICE OF PERSONNEL MANAGEMENT

Excepted Service; February 2023

AGENCY: Office of Personnel Management.

ACTION: Notice.

SUMMARY: This notice identifies Schedule A, B, and C appointing authorities applicable to a single agency that were established, modified or revoked from February 1, 2023 to February 28, 2023.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established, modified or revoked each month in the Federal Register at www.gpo.gov/fdsys/. OPM also publishes an annual notice of the consolidated listing of all Schedule A, B, and C appointing authorities, current as of June 30, in the Federal Register.

Schedule A

09. Department of the Air Force (Schedule A, 213.3109)

(m) Joint Special Operations University

(1) Not to exceed 15 positions of Dean of the College Special Operations Low Intensity Conflict and Professor of Interdisciplinary Studies. Initial appointments may not exceed 3 years, but may be extended thereafter in 1 to 5-year increments, indefinitely.

11. Department of Commerce (Schedule A, 213.3114)

(m) National Institute of Standards and Technology

(1) Not to exceed 50 positions in support of implementation of the CHIPS Act. Positions will be in the following occupations of Management and Program Analyst (`ZA-343 Pay Bands III, IV), Program Manager (ZA-340 Pay Bands IV, V), Public Affairs Specialist (ZA-1035 Pay Bands III, IV, V). Permanent, temporary or time limited appointments may be made when using this authority.

14. Department of Commerce (Sch A, 213.3114)

(l) National Telecommunication and Information Administration—

(1) Not to exceed 139 professional positions in grades GS-13 through GS-15.

Schedule B

14. Department of Commerce (Sch B, 213.3214)

(d) National Telecommunication and Information Administration—

(1) Not to exceed 42 positions of GS-0850 Electrical Engineer, GS-0855 Electronics Engineer, or GS-0854 Computer Engineer in grades GS-11 through GS-15, or positions that require subject-matter expertise with telecommunications policy, 911 communication programs, broadband program specialists, environmental specialists, and spectrum policy and related programs. Employment under this authority may not exceed 2 years.

Schedule C

The following Schedule C appointing authorities were approved during February 2023.

Agency name | Organization name | Position title | Authorization No. | Effective date
DEPARTMENT OF AGRICULTURE | Office of the Under Secretary for Food, Nutrition and Consumer Services | Special Assistant | DA230052 | 02/10/2023
| Natural Resources Conservation Service | Senior Advisor | DA230056 | 02/16/2023
| Office of the Assistant Secretary for Congressional Relations | Lead Legislative Analyst | DA230058 | 02/10/2023
|  | Legislative Advisor | DA230059 | 02/27/2023
| Office of the Secretary | Special Assistant | DA230053 | 02/10/2023
DEPARTMENT OF COMMERCE | Office of Economic Development Administration | Director of Public Affairs | DC230077 | 02/09/2023
| Minority Business Development Agency | Senior Advisor for Diversity, Equity, Inclusion and Accessibility | DC230081 | 02/24/2023
| National Institute of Standards and Technology | Chief of Staff for External and Government Affairs | DC230070 | 02/09/2023
|  | Director of Public Engagement | DC230071 | 02/09/2023
|  | Director of Legislative Affairs | DC230074 | 02/09/2023
| National Oceanic and Atmospheric Administration | Special Advisor | DC230073 | 02/09/2023
| Office of Executive Secretariat | Special Assistant | DC230075 | 02/09/2023
| Office of Policy and Strategic Planning | Counselor for Equity | DC230072 | 02/09/2023
| Office of the Chief of Staff | Advance and Protocol Officer | DC230078 | 02/09/2023
| Office of the Secretary | Special Assistant | DC230084 | 02/24/2023
| Office of the Under Secretary | Senior Advisor | DC230080 | 02/24/2023
CONSUMER FINANCIAL PROTECTION BUREAU | Office of the Director | Senior Advisor for Congressional Affairs | FP230003 | 02/17/2023
COUNCIL ON ENVIRONMENTAL QUALITY | Council on Environmental Quality | Director of Legislative Affairs | EQ230003 | 02/21/2023
DEPARTMENT OF DEFENSE | Office of the Secretary of Defense | Advance Officer | DD230114 | 02/14/2023
DEPARTMENT OF THE NAVY | Office of the Secretary of the Navy | Special Assistant to the Secretary of the Navy | DN230015 | 02/03/2023
DEPARTMENT OF EDUCATION | Office of Planning, Evaluation and Policy Development | Special Assistant | DB230048 | 02/09/2023
| Office of Postsecondary Education | Senior Advisor | DB230043 | 02/17/2023
| Office of the Secretary | Special Assistant | DB230046 | 02/09/2023
|  | Special Advisor to the Chief of Staff | DB230047 | 02/09/2023
|  | Director of Scheduling | DB230053 | 02/09/2023
|  | Deputy Director, Center for Faith-Based and Neighborhood Partnerships | DB230051 | 02/23/2023
|  | Executive Director, White House Initiative on Advancing Educational Equity, Excellence, and Economic | DB230055 | 02/23/2023
DEPARTMENT OF ENERGY | Office of the Assistant Secretary for Congressional and Intergovernmental Affairs | Regional Intergovernmental and External Affairs Specialist for the Southwest | DE230035 | 02/16/2023
| Office of the Assistant Secretary for Energy Efficiency and Renewable Energy | Advisor | DE230070 | 02/24/2023
| Office of Management | Director, Scheduling and Advance | DE230029 | 02/16/2023
| Office of Policy | Special Assistant | DE230071 | 02/24/2023
| Office of the Secretary | Special Assistant to the Chief of Staff | DE230067 | 02/16/2023
ENVIRONMENTAL PROTECTION AGENCY | Office of the Administrator | Special Assistant for the Greenhouse Gas Reduction Fund | EP230051 | 02/03/2023
| Office of Public Affairs | Writer-Editor (Speechwriter) | EP230052 | 02/03/2023
|  | Senior Advisor for Communications | EP230053 | 02/03/2023
| Office of the Assistant Administrator for Land and Emergency Management | Special Advisor for Implementation | EP230058 | 02/16/2023
EXPORT-IMPORT BANK | Office of the Chairman | Senior Advisor to the President and Chair | EB230007 | 02/16/2023
|  | Director of Scheduling | EB230005 | 02/23/2023
|  | Special Assistant and Deputy Scheduler | EB230006 | 02/23/2023
GENERAL SERVICES ADMINISTRATION | Office of the Administrator | Chief of Staff | GS230027 | 02/24/2023
DEPARTMENTS OF HEALTH AND HUMAN SERVICES | Office of the Assistant Secretary for Public Affairs | Press Assistant | DH230143 | 02/09/2023
| Office of Intergovernmental and External Affairs | Special Assistant | DH230144 | 02/23/2023
| Office of the Administration for Children and Families | Advisor | DH230156 | 02/23/2023
DEPARTMENT OF HOMELAND SECURITY | Office of Public Affairs | Assistant Press Secretary | DM230145 | 02/21/2023
|  | Assistant Press Secretary | DM230144 | 02/24/2023
| Office of the General Counsel | Oversight Counsel | DM230147 | 02/21/2023
DEPARTMENT OF HOUSING AND URBAN DEVELOPMENT | Office of the Secretary | Policy Advisor (2) | DU230035 DU230036 | 02/10/2023 02/10/2023
| Office of Congressional and Intergovernmental Relations | Special Advisor | DU230037 | 02/10/2023
| Office of Public Affairs | Deputy Assistant Secretary, Public Engagement | DU230039 | 02/16/2023
DEPARTMENT OF THE INTERIOR | National Park Service | Policy Associate | DI230038 | 02/02/2023
| Secretary's Immediate Office | Senior Advance Representative | DI230051 | 02/02/2023
| Office of the Assistant Secretary—Water and Science | Advisor | DI230052 | 02/02/2023
DEPARTMENT OF JUSTICE | Community Relations Service | Chief of Staff and Senior Advisor | DJ230055 | 02/03/2023
|  | Policy Advisor | DJ230058 | 02/09/2023
DEPARTMENT OF LABOR | Office of Congressional and Intergovernmental Affairs | Senior Legislative Officer | DL230041 | 02/09/2023
|  | Legislative Officer | DL230050 | 02/10/2023
| Office of the Solicitor | Senior Counsel | DL230049 | 02/17/2023
NATIONAL AERONAUTICS AND SPACE ADMINISTRATION | Office of Communications | Director of Speechwriting | NN230020 | 02/24/2023
| Office of the Administrator | Projects and Initiatives Manager | NN230021 | 02/24/2023
|  | Special Assistant for Engagement | NN230022 | 02/24/2023
NATIONAL ENDOWMENT FOR THE HUMANITIES | National Endowment for the Humanities | Special Assistant to the Office of the Chair | NH230001 | 02/03/2023
OFFICE OF NATIONAL DRUG CONTROL POLICY | Office of National Drug Control Policy | Confidential Assistant | QQ230006 | 02/09/2023
SMALL BUSINESS ADMINISTRATION | Office of Capital Access | Senior Advisor | SB230015 | 02/21/2023
SOCIAL SECURITY ADMINISTRATION | Office of Legislative Development and Operations | Senior Technical Advisor | SZ230008 | 02/24/2023
DEPARTMENT OF STATE | Bureau of African Affairs | Special Advisor | DS230087 | 02/09/2023
| Bureau of Cyberspace and Digital Policy | Senior Advisor | DS230099 | 02/24/2023
| Bureau of Democracy, Human Rights and Labor | Senior Advisor | DS230097 | 02/24/2023
| Office of Global Women's Issues | Staff Assistant | DS230088 | 02/09/2023
| Office of Policy Planning | Special Assistant | DS230089 | 02/09/2023
| Office of the Secretary | Staff Assistant | DS230092 | 02/09/2023
|  | Senior Advisor | DS230100 | 02/24/2023
| Office of the Under Secretary for Management | Senior Advisor | DS230086 | 02/09/2023
| Office of the Under Secretary for Public Diplomacy and Public Affairs | Senior Advisor | DS230101 | 02/24/2023
DEPARTMENT OF TRANSPORTATION | Immediate Office of the Administrator | Senior Advisor to the Administrator | DT230059 | 02/13/2023
| Office of the Assistant Secretary for Transportation Policy | Special Advisor for Environmental Justice | DT230058 | 02/21/2023
| Office of the Secretary | Deputy Director for Operations | DT230062 | 02/23/2023
DEPARTMENT OF THE TREASURY | Office of the Assistant Secretary (Tax Policy) | Special Assistant | DY230058 | 02/12/2023
| Department of the Treasury | Special Assistant | DY230057 | 02/10/2023
|  | Deputy Executive Secretary | DY230056 | 02/24/2023

The following Schedule C appointing authorities were revoked during February 2023.

Agency name | Organization name | Position title | Request No. | Vacate date
DEPARTMENT OF COMMERCE | Office of Executive Secretariat | Special Assistant | DC220048 | 02/11/2023
| Office of the Chief of Staff | Special Advisor | DC230034 | 02/11/2023
|  | Director of Scheduling and Advance | DC220038 | 02/11/2023
| Office of the Secretary | Special Assistant | DC220169 | 02/25/2023
| Office of White House Liaison | Deputy White House Liaison | DC220136 | 02/25/2023
DEPARTMENT OF ENERGY | Office of the Assistant Secretary for Congressional and Intergovernmental Affairs | Regional Intergovernmental and External Affairs for the Southwest | DE210182 | 02/25/2023
|  | Regional Intergovernmental and External Affairs Specialist | DE210186 | 02/03/2023
| Office of Management | Director of Scheduling | DE210181 | 02/25/2023
|  | Special Assistant | DE230001 | 02/20/2023
| Office of the Secretary | Special Assistant to the Chief of Staff | DE220058 | 02/25/2023
| Office of the Under Secretary for Science | Special Assistant | DE220067 | 02/18/2023
DEPARTMENT OF HEALTH AND HUMAN SERVICES | Office of Administration for Children and Families | Special Assistant | DH220101 | 02/25/2023
| Office of Intergovernmental and External Affairs | Regional Director, Seattle, Washington, Region X | DH220011 | 02/10/2023
|  | Special Assistant | DH230037 | 02/25/2023
| Office of the Secretary | Senior Advisor | DH220081 | 02/11/2023
|  | Special Advisor | DH230019 | 02/11/2023
DEPARTMENT OF HOMELAND SECURITY | Federal Emergency Management Agency | Director of Legislative Affairs | DM230075 | 02/10/2023
| Office of Partnership and Engagement | Partnership and Engagement Specialist | DM220084 | 02/12/2023
DEPARTMENT OF HOUSING AND URBAN DEVELOPMENT | Government National Mortgage Association | Senior Advisor | DU220026 | 02/08/2023
| Office of Congressional and Intergovernmental Relations | Special Advisor | DU230009 | 02/08/2023
| Office of Policy Development and Research | Special Policy Advisor | DU210099 | 02/11/2023
| Office of Public Affairs | Senior Advisor for Public Engagement | DU220031 | 02/25/2023
| Office of the Administration | Advance Coordinator | DU210094 | 02/01/2023
DEPARTMENT OF JUSTICE | Office of the Environment and Natural Resources Division | Chief of Staff and Senior Counsel | DJ220019 | 02/28/2023
DEPARTMENT OF STATE | Bureau of Global Public Affairs | Senior Advisor | DS220056 | 02/11/2023
| Office of the Secretary | Special Assistant | DS220038 | 02/26/2023
NATIONAL AERONAUTICS AND SPACE ADMINISTRATION | Office of Communications | Speechwriter | NN210050 | 02/24/2023
| Office of the Administrator | Special Assistant for Projects and Initiatives | NN210043 | 02/24/2023
|  | Executive Assistant and Advisor | NN220027 | 02/24/2023
OFFICE OF THE SECRETARY OF DEFENSE | Office of the Assistant Secretary of Defense (Legislative Affairs) | Special Assistant | DD220021 | 02/11/2023
UNITED STATES AGENCY FOR GLOBAL MEDIA | United States Agency for Global Media | Senior Advisor | IB220002 | 02/17/2023

Authority: 5 U.S.C. 3301 and 3302; E.O. 10577, 3 CFR, 1954-1958 Comp., p. 218.

Office of Personnel Management.
Kayyonne Marston,
Federal Register Liaison.

[FR Doc. 2023-13635 Filed 6-26-23; 8:45 am]

BILLING CODE 6325-39-P